DEPARTMENT OF THE INTERIOR

Fish and Wildlife Service

Recovery Plan for Sidalcea oregana var. calva (Wenatchee Mountains Checker-mallow)

AGENCY: Fish and Wildlife Service, Interior.

ACTION: Notice of document availability.

SUMMARY: The U.S. Fish and Wildlife Service (we) announces the availability of the final Recovery Plan for Sidalcea oregana var. calva (Wenatchee Mountains Checker-mallow). This recovery plan describes the status of the species, recovery objectives and criteria, and conservation measures needed to lessen the threats faced by the plant and bring it to the point where it no longer needs Endangered Species Act (ESA) protection.

ADDRESSES: Copies of the recovery plan are available by request from the U.S. Fish and Wildlife Service, Central Washington Field Office, 215 Melody Lane, Suite 119, Wenatchee, Washington 98801 (telephone: 509-665-3508). An electronic copy of this recovery plan is also available at http://endangered.fws.gov/recovery/index.html#plans.

FOR FURTHER INFORMATION CONTACT: Tim McCracken, Fish and Wildlife Biologist, at the above Wenatchee address and telephone number.

SUPPLEMENTARY INFORMATION:

Background

Recovery of endangered or threatened animals and plants is a primary goal of the ESA and our endangered species program. Recovery means improvement of the status of listed species to the point at which listing is no longer required under the criteria set out in section 4(a)(1) of the Act. Recovery plans describe actions considered necessary for the conservation of the species, establish criteria for downlisting or delisting listed species, and estimate time and cost for implementing the measures needed for recovery.

The ESA requires the development of a recovery plan for endangered or threatened species unless such a plan would not promote the conservation of the species. Section 4(f) of the Act requires that public notice, and an opportunity for public review and comment, be provided during recovery plan development. The draft recovery plan for Sidalcea oregana var. calva was available for public comment from October 15, 2003, to December 15, 2003 (68 FR 59414). Information presented during the public comment period has been considered in the preparation of this final recovery plan and is summarized in the appendix to the recovery plan. We will forward substantive comments regarding recovery plan implementation to the appropriate Federal agencies or other entities so they can take these comments into account in the course of implementing recovery actions.

Sidalcea oregana var. calva was listed as an endangered species on December 22, 1999 (64 FR 71680). This rare, attractive member of the mallow family (Malvaceae) is endemic to Chelan County, Washington, where it is found in wetlands and moist meadows of the Wenatchee Mountains. Just five populations are known, and four of these five number from only eight to a few hundred individuals. Populations occur on a mixture of private, State, and Federal lands. Critical habitat was designated for this species on September 6, 2001 (66 FR 46536).

The primary threats to Sidalcea oregana var. calva include habitat fragmentation, degradation, or loss due to conversion of native wetlands to orchards and other agricultural uses; rural residential development and associated impacts; altered hydrology; competition from native and nonnative plants; recreational impacts; woody plant encroachment; and activities associated with fire suppression. To a lesser extent the species is threatened by livestock grazing, road construction, and timber harvesting and associated impacts including changes in surface runoff. The species is highly vulnerable to extirpation from demographic factors or random, naturally occurring events due to the very small size of most of the remaining populations.

The primary objective of this recovery plan is to recover the plant to the point that it can be delisted under the ESA. Actions necessary to achieve this objective include: (1) Maintaining the current geographical distribution of the species through effective management and coordination with private landowners and other agencies; (2) identifying potential habitat and developing a sound protocol for reintroducing the species within its historical range; (3) conducting research and monitoring essential to the conservation of the species; (4) collecting seed representing the genetic diversity of the species across its range and storing it in a secure facility; (5) surveying to identify potential additional populations; and (6) developing outreach materials to provide information about the species, its habitat, and management recommendations to local landowners.

Authority: The authority for this action is section 4(f) of the Endangered Species Act, 16 U.S.C. 1533(f).

Dated: July 22, 2004.
David J. Wesley,
Acting Regional Director, Region 1, U.S. Fish and Wildlife Service.

[FR Doc. 04-22188 Filed 9-30-04; 8:45 am]

BILLING CODE 4310-55-P